CONSUMER PRODUCT SAFETY COMMISSION

[Docket No. CPSC-2010-0055]

Agency Information Collection Activities; Submission for OMB Review; Comment Request; Standard for the Flammability of Mattresses and Mattress Pads and Standard for the Flammability (Open Flame) of Mattress Sets

AGENCY: Consumer Product Safety Commission.

ACTION: Notice.

SUMMARY: As required by the Paperwork Reduction Act of 1995, the Consumer Product Safety Commission (CPSC or Commission) announces that the Commission has submitted to the Office of Management and Budget (OMB) a request for extension of approval for information collection requirements set forth in the Standard for the Flammability of Mattresses and Mattress Pads, and the Standard for the Flammability (Open Flame) of Mattress Sets, approved previously under OMB control number 3041-0014. On June 20, 2023, CPSC published a notice in the Federal Register to announce the agency's intention to seek extension of approval of the collection of information. The Commission has received no comments. Therefore, by publication of this notice, the Commission announces that CPSC has submitted to the OMB a request for extension of approval of that collection of information, without change.

DATES: Submit written or electronic comments not later than September 27, 2023.

ADDRESSES: Submit comments about this request by email: OIRA_submission@omb.eop.gov or fax: 202-395-6881. Comments by mail should be sent to the Office of Information and Regulatory Affairs, Attn: OMB Desk Officer for the CPSC, Office of Management and Budget, Room 10235, 725 17th Street NW, Washington, DC 20503. Comments by mail should be sent to the Office of Information and Regulatory Affairs, Attn: OMB Desk Officer for the CPSC, Office of Management and Budget, Room 10235, 725 17th Street NW, Washington, DC 20503. Written comments that are sent to OMB also should be submitted electronically at: http://www.regulations.gov, under Docket No. CPSC-2010-0055.

FOR FURTHER INFORMATION CONTACT: Cynthia Gillham, Consumer Product Safety Commission, 4330 East West Highway, Bethesda, MD 20814; (301) 504-7791, or by email to: cgillham@cpsc.gov.

SUPPLEMENTARY INFORMATION:

A. Background

In 1972, the Commission promulgated under section 4 of the Flammable Fabrics Act (FFA), 15 U.S.C. 1193, the Standard for the Flammability of Mattresses and Mattresses Pads, 16 CFR part 1632 (part 1632), to reduce the unreasonable risk of burn injuries and deaths from fires associated with mattresses and mattress pads. 49 FR 19796. Part 1632 prescribes requirements to test whether a mattress or mattress pad will resist ignition from a smoldering cigarette. Part 1632 also requires manufacturers to perform successfully prototype tests of each combination of materials and construction methods used to produce their mattresses or mattress pads. Manufacturers and importers must maintain the records and test results specified under the standard for three years.

Also, to reduce deaths and injuries related to mattress fires, particularly those ignited by open-flame sources, such as lighters, candles, and matches, the Commission promulgated the Standard for the Flammability (Open Flame) of Mattress Sets, 16 CFR part 1633 (part 1633), under section 4 of the FFA. Part 1633 requires manufacturers to maintain certain records to document compliance with the standard, including maintaining records concerning prototype testing, pooling, and confirmation testing, and quality assurance procedures and any associated testing. The required records must be maintained for as long as mattress sets based on the prototype are in production and be retained for three years thereafter.

OMB previously approved the collection of information for parts 1632 and 1633 under control number 3041-0014, with an expiration date of August 31, 2023. On June 20, 2023, the Commission published a notice in the Federal Register (88 FR 39832), to announce the agency's intention to seek extension of approval of the collection of information for control number 3041-0014. The Commission has received no comments. Therefore, by publication of this notice, the Commission announces that CPSC has submitted to the OMB a request for extension of approval of that collection of information, without change.

B. Burden Hours

Part 1632: Commission staff estimates 403 respondents produce mattresses, and that each respondent will spend 26 hours for testing and record keeping annually, for a total of 10,478 hours (403 establishments × 26 hours = 10,478). The hourly compensation for the time required for record keeping is $72.68 (for management, professional, and related occupations in goods-producing industries, Bureau of Labor Statistics, March 2023). Staff's estimated annualized cost to respondents is approximately $761,541 (10,478 hours × $72.68 per hour).

Part 1633: Part 1633 requires detailed documentation of prototype identification and testing records, model and prototype specifications, inputs used, name and location of suppliers, and confirmation of test records, if establishments choose to pool a prototype. This documentation is in addition to documentation already conducted by mattress manufacturers to meet part 1632. Staff again estimates that there are 403 respondents.

Using these estimates, including records of reported burden hours since 2017, Commission staff estimates the recordkeeping requirements to require about 4 hours and 44 minutes per establishment, per qualified prototype. Most mattress manufacturers base their complying production on 15 to 20 prototypes, although some larger manufacturers reportedly are producing mattresses based on more than 100 prototypes. Assuming that establishments qualify their production with an average of 20 different qualified prototypes, recordkeeping time is about 94.6 hours (4.73 hours × 20 prototypes) per establishment, per year. This translates to an estimated annual recordkeeping time cost to all mattress producers of 38,124 hours (94.6 hours × 403 establishments). The hourly compensation for the time required for record keeping is $72.68 (for management, professional, and related occupations in goods-producing industries, Bureau of Labor Statistics, March 2023).¹ Accordingly, the annual total estimated cost for recordkeeping is approximately $2,770,852 (38,124 hours × $72.68 per hour). Pooling among establishments or using a prototype qualification for longer than 1 year will reduce the hours required and associated cost, however.

¹ We updated this estimate from the June 20, 2023 notice (88 FR 39833) to use the more recent March 2023 Bureau of Labor Statistics.

The total estimated annual cost to the 403 establishments for the burden hours associated with parts 1632 and 1633 is approximately $3.5 million ($761,541+ $2,770,852 = $3,532,393.

Alberta E. Mills,
Secretary, Consumer Product Safety Commission.

[FR Doc. 2023-18476 Filed 8-25-23; 8:45 am]

BILLING CODE 6355-01-P